SMALL BUSINESS ADMINISTRATION

[Disaster Declaration # 10135 and # 10136]

Alabama Disaster Number AL-00001

AGENCY: U.S. Small Business Administration.

ACTION: Amendment 1.

SUMMARY: This is an amendment of the Presidential declaration of a major disaster for the State of Alabama (FEMA-1593-DR), dated 07/10/2005.

Incident: Hurricane Dennis.

Incident Period: 07/10/2005 and continuing.

DATES: Effective Date: 07/11/2005.

Physical Loan Application Deadline Date: 09/08/2005.

EIDL Loan Application Deadline Date: 04/10/2006.

ADDRESSES: Submit completed loan applications to: U.S. Small Business Administration, Disaster Area Office 3, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Alabama, dated 07/10/2005, is hereby amended to include the following areas as adversely affected by the disaster:

Primary Counties: Escambia

Contiguous Counties:

Alabama: Conecuh, Covington; Florida: Okaloosa, Santa Rosa.

All other information in the original declaration remains unchanged.

(Catalog of Federal Domestic Assistance Numbers 59002 and 59008)
Herbert L. Mitchell,
Associate Administrator for Disaster Assistance.

[FR Doc. 05-15715 Filed 8-8-05; 8:45 am]

BILLING CODE 8025-01-U